DEPARTMENT OF COMMERCE

International Trade Administration

[A-570-848]

Freshwater Crawfish Tail Meat From the People's Republic of China: Antidumping Duty Administrative Review; 2010-2011

AGENCY: Import Administration, International Trade Administration, Department of Commerce.

SUMMARY: The Department of Commerce (the Department) is conducting an administrative review of the antidumping duty order on freshwater crawfish tail meat from the People's Republic of China (PRC). The period of review (POR) is September 1, 2010, through August 31, 2011. The review covers the following producers/exporters of the subject merchandise, Xiping Opeck Food Co., Ltd. (Xiping Opeck), Yancheng Hi-King Agriculture Developing Co., Ltd., (Hi-King Agriculture) and China Kingdom (Beijing) Import & Export Co., Ltd (China Kingdom). We have preliminarily determined that Hi-King Agriculture sold subject merchandise at less than normal value during the period of review and that Xining Opeck and China Kingdom have made sales in the United States at prices not below normal value.

DATES: Effective Date: October 9, 2012.

FOR FURTHER INFORMATION CONTACT: Hermes Pinilla or Minoo Hatten, AD/CVD Operations, Office 1, Import Administration, International Trade Administration, U.S. Department of Commerce, 14th Street and Constitution Avenue NW., Washington, DC 20230; telephone: (202) 482-3477, and (202) 482-1690, respectively.

SUPPLEMENTARY INFORMATION:

Scope of the Order

The merchandise subject to the order is freshwater crawfish tail meat. The product is currently classified in the Harmonized Tariff Schedule of the United States (HTSUS) under item numbers 1605.40.10.10 and 1605.40.10.90. Although the HTSUS subheadings are provided for convenience and customs purposes only, the written product description, available in Freshwater Crawfish Tail Meat from the People's Republic of China: Notice of Final Results of Antidumping Duty Administrative Review, 71 FR 7013 (February 10, 2006), remains dispositive.

Nature of Transactions Pertaining to the Entries Under Review With Respect to Xiping Opeck

Although we have calculated a margin for Xiping Opeck for purposes of the preliminary results, we require additional information in order to accurately assess the nature of the transactions pertaining to entries under review with respect to Xiping Opeck. For further details on our analysis, please see the memorandum from Christian Marsh, Deputy Assistant Secretary for Antidumping and Countervailing Duty Operations, to Paul Piquado, Assistant Secretary for Import Administration, “Decision Memorandum for Preliminary Results of Antidumping Duty Administrative Review: Freshwater Crawfish Tail Meat from the People's Republic of China” (dated concurrently with this notice) (Preliminary Decision Memorandum), and hereby adopted by this notice. The Preliminary Decision Memorandum is a public document and is on file electronically via Import Administration's Antidumping and Countervailing Duty Centralized Electronic Service System (IA ACCESS). IA ACCESS is available to registered users at http://iaaccess.trade.gov and in the Central Records Unit (CRU), Room 7046 of the main Department of Commerce building. In addition, a complete version of the Preliminary Decision Memorandum can be accessed directly on the internet at http://www.trade.gov/ia/. The signed Preliminary Decision Memorandum and the electronic versions of the Preliminary Decision Memorandum are identical in content.

Treatment of Affiliated Parties as a Single Entity

We preliminarily determine that Hi-King Agriculture and its affiliates, Yancheng Seastar Seafood Co., Ltd., Wuhan Hi-King Agriculture Development Co., Ltd., Yancheng Hi-King Frozen Food Co., Ltd., Jiangxi Hi-King Poyang Lake Seafood Co., Ltd., and Yancheng Hi-King Aquatic Growing Co., Ltd., should be treated as a single entity for the purpose of calculating an antidumping duty margin. See memorandum entitled “Freshwater Crawfish Tail Meat from the People's Republic of China—Collapsing of Yancheng Hi-King Agriculture Developing Co., Ltd., and its Affiliates” dated concurrently with this notice.

Methodology

The Department has conducted this review in accordance with section 751(a)(2) of the Tariff Act of 1930, as amended (the Act). Export Price is calculated in accordance with section 772(c) of the Act. Because the PRC is a nonmarket economy within the meaning of section 771(18) of the Act, normal value has been calculated in accordance with section 773(c) of the Act. Specifically the respondents' factors of production have been valued in Indonesian prices (when available), which is economically comparable to the PRC and a significant producer of comparable merchandise. For a full description of these “surrogate” values and the methodology underlying our conclusions, please see memorandum entitled “Freshwater Crawfish Tail Meat from the People's Republic of China: Surrogate-Value Memorandum” dated concurrently with this notice and the Preliminary Decision Memorandum.

Preliminary Results of Review

The Department has determined that the following preliminary dumping margins exist for the period September 1, 2010, through August 31, 2011:

Company | Margin (percent)
Xiping Opeck Food Co., Ltd. | 0.00
Yancheng Hi-King Agriculture Developing Co., Ltd. | 22.02
China Kingdom (Beijing) Import & Export Co., Ltd. | 0.00
Nanjing Gemsen International Co., Ltd.¹ | 22.02

Disclosure and Public Comment

The Department will disclose to parties to this proceeding the calculations performed in reaching the preliminary results within five days of the date of publication of these preliminary results.² Interested parties may submit written comments (case briefs) within 30 days of publication of the preliminary results and rebuttal comments (rebuttal briefs) within five days after the time limit for filing case briefs.³ Pursuant to 19 CFR 351.309(d)(2), rebuttal briefs must be limited to the issues raised in the case briefs. Parties who submit arguments are requested to submit with the argument: (1) A statement of the issue; (2) a brief summary of the argument; and (3) a table of authorities.

¹ Nanjing Gemsen International Co., Ltd was not selected for individual examination.

² See 19 CFR 351.224(b).

³ See 19 CFR 351.309(c)(1)(ii).

Interested parties who wish to request a hearing, or to participate if one is requested, must submit a written request to the Assistant Secretary for Import Administration, U.S. Department of Commerce, filed electronically using Import Administration's Antidumping and Countervailing Duty Centralized Electronic Service System (IA ACCESS). An electronically filed document must be received successfully in its entirety by the Department's electronic records system, IA ACCESS, by 5 p.m. Eastern Standard Time within 30 days after the date of publication of this notice.⁴ Requests should contain the party's name, address, and telephone number, the number of participants, and a list of issues to be discussed. If a request for a hearing is made, we will inform parties of the scheduled date for the hearing which will be held at the U.S. Department of Commerce, 14th Street and Constitution Avenue NW., Washington, DC 20230, at a time and location to be determined.⁵ Parties should confirm by telephone the date, time, and location of the hearing.

⁴ See 19 CFR 351.310(c).

⁵ See 19 CFR 351.310.

Unless the deadline is extended pursuant to section 751(a)(2)(B)(iv) of the Act, the Department will issue the final results of this administrative review, including the results of its analysis of issues raised by parties in their comments, within 120 days after the issuance of these preliminary results.

Deadline for Submission of Publicly Available Surrogate Value Information

In accordance with 19 CFR 351.301(c)(3), the deadline for submission of publicly available information to value factors of production under 19 CFR 351.408(c) is 20 days after the date of publication of these preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department notes that 19 CFR 351.301(c)(1), permits new information only insofar as it rebuts, clarifies, or corrects information recently placed on the record.⁶ Furthermore, the Department generally will not accept business proprietary information in either the surrogate value submissions or the rebuttals thereto, as the regulation regarding the submission of surrogate values allows only for the submission of publicly available information.

⁶ See, e.g., Glycine from the People's Republic of China: Final Results of Antidumping Duty Administrative Review and Final Rescission, in Part, 72 FR 58809 (October 17, 2007), and accompanying Issues and Decision Memorandum at Comment 2.

Assessment Rates

Upon issuing the final results, the Department shall determine, and U.S. Customs and Border Protection (CBP) shall assess, antidumping duties on all appropriate entries. The Department intends to issue assessment instructions to CBP 15 days after the date of publication of the final results of review. For any individually examined respondent whose weighted average dumping margin is above de minimis (i.e., 0.50 percent) in the final results of this review, the Department will calculate importer-specific assessment rates on the basis of the ratio of the total amount of dumping calculated for the importer's examined sales and the total entered value of sales, in accordance with 19 CFR 351.212(b)(1). In these preliminary results, the Department applied the assessment rate calculation method adopted in Final Modification for Reviews, i.e., on the basis of monthly average-to-average comparisons using only the transactions associated with that importer with offsets being provided for non-dumped comparisons.

Where the Department calculates a weighted-average dumping margin by dividing the total amount of dumping for reviewed sales to that party by the total sales quantity associated with those transactions, the Department will direct CBP to assess importer-specific assessment amounts based on the resulting per-unit amounts. Where an importer- (or customer-) specific ad valorem or per-unit amount is greater than de minimis, the Department will instruct CBP to collect the appropriate duties at the time of liquidation.⁷ Where an importer- (or customer-) specific ad valorem or per-unit amount is zero or de minimis, the Department will instruct CBP to liquidate appropriate entries without regard to antidumping duties.⁸ For the companies for which this review has been preliminarily rescinded, the Department intends to assess antidumping duties at rates equal to the cash deposit of estimated antidumping duties required at the time of entry, or withdrawal from warehouse, for consumption, in accordance with 19 CFR 351.212(c)(2), if the review is rescinded for these companies.

⁷ See 19 CFR 351.212(b)(1).

⁸ See 19 CFR 351.106(c)(2).

Cash Deposit Requirements

The following cash deposit requirements, when imposed, will apply to all shipments of the subject merchandise entered, or withdrawn from warehouse, for consumption on or after the publication of the final results of this administrative review, as provided by section 751(a)(2)(C) of the Act: (1) The cash deposit rates for Xiping Opeck, Hi-King Agriculture, China Kingdom, and Nanjing Gemsen International Co., Ltd. will be the rates established in the final results of this administrative review (except, if the rate is zero or de minimis, i.e., less than 0.5 percent, no cash deposit will be required for that company) ; (2) for Shanghai Ocean and Xuzhou Jinjiang which claimed no shipments and have separate rates, the cash deposit rate will remain unchanged from the rate assigned to these companies in the most recently completed review of the companies; (3) for previously investigated or reviewed PRC and non-PRC exporters who are not under review in this segment of the proceeding but who have separate rates, the cash deposit rate will continue to be the exporter-specific rate published for the most recent period; (4) for all other PRC exporters of subject merchandise which have not been found to be entitled to a separate rate, the cash deposit rate will be PRC-wide rate of 223.01 percent; (5) for all non-PRC exporters of subject merchandise the cash deposit rate will be the rate applicable to the PRC entity that supplied that exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This review and notice are in accordance with sections 751(a)(1), 751(a)(2)(B)(iv), 751(a)(3), and 777(i) of the Act.

Dated: October 1, 2012.
Paul Piquado,
Assistant Secretary for Import Administration.

Appendix I

List of Topics Discussed in the Preliminary Decision Memorandum

1. Background

2. Scope of Merchandise

3. Intent To Rescind Review in Part

4. Evaluation of the Nature of Transactions Pertaining to the Entries Under Review With Respect to Xiping Opeck

5. Treatment of Affiliated Parties as a Single Entity

6. Non-Market-Economy Country Status

7. Surrogate Country

8. Separate Rates

9. Separate Rate for Non-Selected Company

10. PRC-Wide Entity Rate

11. Absence of De Jure Control

12. Absence of De Facto Control

13. U.S. Price

14. Normal Value

15. Surrogate Values

16. Currency Conversion

[FR Doc. 2012-24843 Filed 10-5-12; 8:45 am]

BILLING CODE 3510-DS-P